DEPARTMENT OF THE INTERIOR

Fish and Wildlife Service

[FWS-R3-ES-2014-N054; FXES11130300000F3-145-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before May 1, 2014.

ADDRESSES: Send written comments by U.S. mail to the Regional Director, Attn: Karl Tinsley, U.S. Fish and Wildlife Service, Ecological Services, 5600 American Blvd. West, Suite 990, Bloomington, MN 55437-1458; or by electronic mail to permitsR3ES@fws.gov.

FOR FURTHER INFORMATION CONTACT: Karl Tinsley, (612) 713-5330.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE06820A.

Applicant: Russell A. Benedict, Central College, Pella, IA.

The applicant requests a permit renewal to take (capture and release) Indiana bat (Myotis sodalis) and gray bat (Myotis grisescens) within the States of Illinois, Iowa, and Missouri. Proposed activities are for the recovery and enhancement of survival of the species in the wild.

Permit Application Number: TE206781.

Applicant: Ecological Specialists, Inc., O'Fallon, MO.

The applicant requests a permit renewal, with amendment, to take (capture and release; capture and relocate) the following mussel species within the States of Arkansas, Iowa, Illinois, Indiana, Kentucky, Maryland, Michigan, Minnesota, Missouri, Nebraska, New York, Pennsylvania, Oklahoma, Ohio, South Dakota, Tennessee, Virginia, Wisconsin, and West Virginia:

Mussel Species
Clubshell | Pleurobema clava.
Dwarf wedgemussel | Alasmidonta heterodon.
Fanshell | Cyprogenia stegaria.
Fat pocketbook | Potamilus capax.
Higgins' eye pearlymussel | Lampsilis higginsii.
Northern riffleshell | Epioblasma torulosa rangiana.
Orange-footed pimpleback | Plethobasus cooperianus.
Ouachita Rock pocketbook | Arkansia wheeleri.
Pink mucket pearlymussel | Lampsilis abrupta.
Rayed bean | Villosa fabalis.
Rink pink | Obovaria retusa.
Rough pigtoe | Pleurobema plenum.
Scaleshell | Leptodea leptodon.
Spectaclecase | Cumberlandia monodonta.
Spectacled pocketbook | Lampsilis streckeri.
Sheepnose | Plethobasus cyphyus.
Snuffbox | Epioblasma triquetra.
Winged mapleleaf | Quadrula fragosa.

Proposed activities are for the recovery and enhancement of survival of the species in the wild.

Permit Application Number: TE60958A.

Applicant: Bat Calls Identification, Inc., Kansas City, MO.

The applicant requests a permit renewal to take (capture and release) Indiana bat, gray bat, Ozark big-eared bat (Corynorhinus townsendii ingens), and Virginia big-eared bat (Corynorhinus townsendii virginianus) within the States of Alabama, Arkansas, Connecticut, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Texas, Vermont, Virginia, West Virginia, and Wisconsin. Proposed activities are for the recovery and enhancement of survival of the species in the wild.

Permit Application Number: TE48835A.

Applicant: Applied Science and Technology, Inc., Brighton, MI.

The applicant requests a permit renewal, with amendments, to take (capture and release) snuffbox, rayed bean, clubshell, and northern riffleshell mussels within the States of Michigan and Ohio. Proposed activities are for the recovery and enhancement of survival of the species in the wild.

Permit Application Number: TE38842A

Applicant: Sanders Environmental, Inc., Bellefonte, PA.

The applicant requests a permit renewal, with amendments, to take (capture and release) Indiana bat within the States of Illinois, Indiana, Iowa, Michigan, Missouri, Ohio, and Wisconsin. Proposed activities are for the recovery and enhancement of survival of the species in the wild.

Permit Application Number: TE26707B

Applicant: Paige N. Anderson, Yutan, NE.

The applicant requests a permit to take (capture and release) Indiana bat and northern long-eared bat (Myotis septentrionalis) within the States of Illinois, Indiana, Iowa, Michigan, Missouri, and Ohio. Proposed activities are for the recovery and enhancement of survival of the species in the wild.

Permit Application Number: TE77313A

Applicant: Egret Environmental Consulting, LLC, Athens, OH.

The applicant requests a permit, with amendments, to take the following species: Indiana bats, gray bats, northern long-eared bats, Hine's emerald dragonfly (Somatochlora hineana), American burying beetle (Nicrophorus americanus), and Mitchell's satyr butterfly (Neonympha mitchellii mitchellii) within the States of Alabama, Georgia, Illinois, Indiana, Iowa, Kentucky, Michigan, Missouri, New Jersey, New York, North Carolina, Ohio, Oklahoma, Pennsylvania, South Carolina, Tennessee, Virginia, West Virginia, and Wisconsin. Proposed activities are for the recovery and enhancement of survival of the species in the wild.

Permit Application Number: TE31055B

Applicant: Kory M. Armstrong, Springfield, MO.

The applicant requests a permit to take (capture and release) Indiana bat, gray bat, and northern long-eared bat within the States of Alabama, Arkansas, Georgia, Illinois, Iowa, Indiana, Kentucky, Michigan, Missouri, Minnesota, Ohio, Tennessee, and Wisconsin. Proposed activities are for the recovery and enhancement of survival of the species in the wild.

Permit Application Number: TE31208A

Applicant: Lewis and Associates, LLC, Borden, IN.

The applicant requests a permit renewal to take (capture, handle, and release) Illinois Cave Amphipod (Gammarus acherondytes) within Monroe County, Illinois, for the purpose of conducting census of populations in cave stream communities. Proposed activities are for the recovery and enhancement of survival of the species in the wild.

Permit Application Number: TE66724A

Applicant: Cleveland Metroparks, Timothy Krynak, P.I., Parma, OH.

The applicant requests a permit renewal to take (capture and release) Indiana bat within Cuyahoga, Medina, and Summit Counties, Ohio. Proposed activities are for the recovery and enhancement of survival of the species in the wild.

Permit Application Number: TE31078B

Applicant: U.S. Army Corps of Engineers, St. Louis, MO.

The applicant requests a permit renewal to take (capture, handle, and release) pallid sturgeon (Scaphirhynchus albus) within the middle Mississippi River adjacent to Scott County, Missouri (RM 38.4-39.4), Cape Girardeau County, Missouri (RM 58.0-60.0), Perry County, Missouri (RM 100.0-104.0), and Liberty Island (near RM 100.0), Monroe County, Illinois, for the purpose of evaluating flex pipe restoration and conducting population census. Proposed activities are for the recovery and enhancement of survival of the species in the wild.

Permit Application Number: TE62334A

Applicant: Mark Hove, University of Minnesota, St. Paul, MN.

The applicant requests a permit to take (capture and hold) winged mapleleaf, Higgins' eye pearlymussel, sheepnose, snuffbox, and spectaclecase mussel species occurring in the Mississippi and St. Croix River watersheds in the States of Minnesota and Wisconsin for scientific research. Proposed activities are for the recovery and enhancement of survival of the species in the wild.

Permit Application Number: TE10887A

Applicant: U.S. Geological Survey, Porter, IN.

The applicant requests a permit renewal, with amendments, to take (capture, house, breed, handle, and release) Karner blue butterfly (Lycaeides melissa samuelis) within the State of Indiana. Proposed activities are for the recovery and enhancement of survival of the species in the wild.

Permit Application Number: TE31355B

Applicant: Brooke Ann Hines, Paris, KY.

The applicant requests a permit to take (capture and release) Indiana bat, gray bat, northern long-eared bat, Virginia big-eared bat, and Ozark big-eared bat within the States of Alabama, Arkansas, Connecticut, Delaware, Florida, Georgia, Illinois, Iowa, Indiana, Kansas, Kentucky, Maryland, Massachusetts, Michigan, Mississippi, Missouri, Minnesota, Nebraska, New Hampshire, New Jersey, New York, North Carolina, Ohio, Oklahoma, Pennsylvania, Rhode Island, South Carolina, Tennessee, Texas, Vermont, Virginia, West Virginia, and Wisconsin. Proposed activities are for the recovery and enhancement of survival of the species in the wild.

Permit Application Number: TE06846A

Applicant: Smithsonian Migratory Bird Center, Washington, DC.

The applicant requests a permit renewal, with amendments, to take (capture, band/tag, and release) the Kirtland's warbler (Dendroica kirtlandii) throughout the State of Michigan. Proposed activities are for the recovery and enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: March 24, 2014.
Lynn M. Lewis,
Assistant Regional Director, Ecological Services, Midwest Region.

[FR Doc. 2014-07228 Filed 3-31-14; 8:45 a.m.]

BILLING CODE 4310-55-P